ENVIRONMENTAL PROTECTION AGENCY

[EPA-HQ-ORD-2015-0684; FRL-9949-60-ORD]

External Peer Review Meeting for Draft Guidelines for Human Exposure Assessment

AGENCY: Environmental Protection Agency (EPA).

ACTION: Notice.

SUMMARY: The U.S. Environmental Protection Agency (EPA or Agency) is announcing that Versar, a contractor to the EPA, will convene an independent panel of experts to review the draft document, Guidelines for Human Exposure Assessment (draft guidelines). EPA previously announced release of the draft guidance for comment. The public comment period ended on March 22, 2016.

The public may register to attend this peer review meeting and time will be set aside at the meeting for brief oral comments from the public regarding the draft document. The draft document is available: Via the internet at http://www.regulations.gov or www.epa.gov/osa/guidelines-human-exposure-assessment; or from Dr. Michael Broder via the contact information below.

DATES: The peer review meeting on the draft document, Guidelines for Human Exposure Assessment will be held on August 15-16, 2016. The meeting will run from approximately 1 p.m. to 5 p.m. Eastern Daylight Time on August 15 and from 8:30 a.m. to 5 p.m. Eastern Daylight Time on August 16, 2016.

ADDRESSES: The meeting will be held at the following address: Crystal City Marriott at Reagan National Airport, located at 1999 Jefferson Davis Highway, Arlington, VA 22202. Versar, Inc. invites the public to register to attend this meeting, either in-person or via teleconference. The phone number for the teleconference line will be provided to register prior to the meeting.

• Internet: The draft document can be downloaded from http://www.regulations.gov Docket ID No. EPA-HQ-ORD-2015-0684.

• Instructions: To attend the peer review meeting, either in-person or via teleconference, you must register no later than August 12, 2016. You may do this by calling Versar at (703) 642-6815; sending a facsimile to (703) 642-6809 ATTN: Exposure Guidelines Peer Review Registration (include your name, title, affiliation, full address, email, and phone number); or sending an email to Mr. David Bottimore of Versar, Inc. at dbottimore@versar.com (Subject line: Exposure Guidelines Peer Review Registration and include your name, title, affiliation, full address, email, and phone number). Please indicate which day(s) you plan to attend the meeting and whether you plan to attend via teleconference or in-person. Space is limited, and registrations will be accepted on a first-come, first-served basis. There will be a limited amount of time for comments from the public at the peer review meeting. Please inform Versar if you wish to make oral comments during the meeting.

• Information on Services for Individuals with Disabilities: The Agency welcomes public attendance at the peer review meeting on the draft document, Guidelines for Human Exposure Assessment, and will make every effort to accommodate persons with disabilities. For information on access or services for individuals with disabilities, contact David Bottimore of Versar at (703) 642-6815.

FOR FURTHER INFORMATION CONTACT: Dr. Michael Broder, Office of the Science Advisor, Mail Code 8105R, U.S. Environmental Protection Agency, 1200 Pennsylvania Ave. NW., Washington, DC 20460; telephone number (202) 564-3393; fax number (202) 564-2070; or email: broder.michael@epa.gov.

SUPPLEMENTARY INFORMATION: The current guidance document for human exposure assessment, Guidelines for Exposure Assessment, was published in 1992, reflecting the state-of-the-science in the 1970s and 1980s. Since its publication, the field of exposure science has undergone significant transformation in methods and approaches, which EPA has incorporated into its policies and practices to better align with the current state-of-the-science. The 1992 guidelines are being updated to reflect the advancement in exposure science and assessment and Agency policies.

The draft guidelines benefit from over two decades of experience with EPA assessments conducted by Agency programs under their respective authorities and constraints, and from input from external panels, including the National Academy of Sciences and EPA's Science Advisory Board. This draft document builds on topics covered in the 1992 exposure guidelines including planning and scoping for an assessment, data acquisition and use, modeling, and considerations of uncertainty in exposure assessment. It also includes new material on planning and conducting an observational human exposure measurement study and considerations of lifestages and sensitive populations in exposure assessments. These draft guidelines present the most current science used in EPA exposure assessments and incorporates information about the Agency's current policies.

Dated: July 19, 2016.
Thomas Burke,
EPA Science Advisor.

[FR Doc. 2016-17708 Filed 7-25-16; 8:45 am]

BILLING CODE 6560-50-P